FEDERAL MARITIME COMMISSION

Ocean Transportation Intermediary License; Revocation

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR part 515, effective on the corresponding date shown below:

License Number: 004505NF.

Name: Freight Masters Systems, International, Inc.

Address: 2629 Waterfront Parkway East Drive, Suite 300, Indianapolis, IN 46214.

Date Revoked: October 15, 2011.

License Number: 020624N.

Name: OTA Logistic Inc.

Address: 7300 Alondra Blvd., Suite 108, Paramount, CA 90723.

Date Revoked: October 21, 2011.

Sandra L. Kusumoto,
Director, Bureau of Certification and Licensing.

[FR Doc. 2011-29083 Filed 11-9-11; 8:45 am]

BILLING CODE 6730-01-P